DEFENSE NUCLEAR FACILITIES SAFETY BOARD

Sunshine Act Notice

TIME AND DATE: 12:00 p.m.-3:00 p.m., September 26, 2017.

PLACE: Defense Nuclear Facilities Safety Board Headquarters, 625 Indiana Avenue NW., Washington, DC 20004-2901.

STATUS: Open.

MATTERS TO BE CONSIDERED: This public meeting will be conducted pursuant to the Government in the Sunshine Act, the Board's implementing regulations for the Government in the Sunshine Act, and the Board's Operating Procedures. The objective of this public business meeting is for the Board to obtain testimony from the DNFSB staff on their completed and documented efforts to date regarding oversight of emergency preparedness and response, with a special emphasis on Board Recommendation 2014-1, and provide an opportunity for the Board to deliberate on these topics. The meeting will proceed in accordance with the meeting agenda, which is posted on the Board's public Web site at www.dnfsb.gov.

Public participation in the meeting is invited during the public comment period of the agenda. Persons interested in speaking during the public comment period are encouraged to pre-register by submitting a request in writing to the Board's address listed above, emailing comment@dnfsb.gov, or calling the Office of the General Counsel at (202) 694-7062 or (800) 788-4016 prior to close of business on September 19, 2017. The Board asks that commenters describe the nature and scope of their oral presentations. Those who pre-register will be scheduled to speak first. Individual oral comments may be limited by the time available, depending on the number of persons who register. At the beginning of the meeting, the Board will post a list of speakers at the entrance to the meeting room. Anyone who wishes to comment or provide technical information or data may do so in writing, either in lieu of, or in addition to, making an oral presentation. The Board Members may question presenters to the extent deemed appropriate. Public participation in the meeting will be subject to the participation criteria posted on the Board's Web site. Written comments and documents will be accepted at the meeting or may be sent to the Board's Washington, DC, office. The Board will hold the meeting record open until October 26, 2017, for the receipt of additional materials.

The meeting will be presented live through internet video streaming. A link to the presentation will be available on the Board's Web site (www.dnfsb.gov) and a recording will be posted soon after. A transcript of these sessions and the associated correspondence will be made available on the Board's Web site. The Board specifically reserves its right to further schedule and otherwise regulate the course of the meeting, to recess, reconvene, postpone, or adjourn the meeting, conduct further reviews, and otherwise exercise its authority under the Atomic Energy Act of 1954, as amended.

CONTACT PERSON FOR MORE INFORMATION: Glenn Sklar, General Manager, Defense Nuclear Facilities Safety Board, 625 Indiana Avenue NW., Suite 700, Washington, DC 20004-2901, (800) 788-4016.

Dated: September 15, 2017.
Sean Sullivan,
Chairman.

[FR Doc. 2017-20160 Filed 9-18-17; 4:15 pm]

BILLING CODE 3670-01-P